DEPARTMENT OF COMMERCE

National Oceanic and Atmospheric Administration

50 CFR Part 648

RIN 0648-BK64

Magnuson-Stevens Fishery Conservation and Management Act Provisions; Fisheries of the Northeastern United States; Amendment 7 to the Atlantic Bluefish Fishery Management Plan

AGENCY: National Marine Fisheries Service (NMFS), National Oceanic and Atmospheric Administration (NOAA), Commerce.

ACTION: Notification of availability of proposed fishery management plan amendment; request for comments.

SUMMARY: The Mid-Atlantic Fishery Management Council has submitted Amendment 7 to the Atlantic Bluefish Fishery Management Plan to NMFS for review and approval. Amendment 7 proposes to implement a rebuilding plan for the overfished bluefish stock, as well as revisions to fishery management plan goals and objectives, administrative measures during the specifications process, and the allocation percentages of quota between the commercial and recreational sectors and commercial quota among the states. The purpose of this amendment is to implement a rebuilding plan, as required by the Magnuson-Stevens Fishery Conservation and Management Act, and to update the Bluefish Fishery Management Plan; responding to recent changes in stock health and distribution using the best information available, while recognizing economic need and reliance throughout the management area. This notice is intended to alert the public to this action and provide an opportunity for comment.

DATES: Comments must be received on or before November 1, 2021.

ADDRESSES: You may submit comments on this document, identified by NOAA-NMFS-2021-0071, by the following method:

Electronic Submission: Submit all electronic public comments via the Federal e-Rulemaking Portal.

1. Go to https://www.regulations.gov, and enter “NOAA-NMFS-2021-0071” in the Search box;

2. Click the “Comment” icon, complete the required fields; and

3. Enter or attach your comments.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

The Mid-Atlantic Fishery Management Council prepared an environmental assessment (EA) for this action that describes the proposed measures and other considered alternatives. The EA also provides a thorough analysis of the biological, economic, and social impacts of the proposed measures and other considered alternatives. Copies of Amendment 7, including the EA, the Regulatory Impact Review, and the Regulatory Flexibility Act analysis prepared in support of this action, are available upon request from: Dr. Christopher M. Moore, Executive Director, Mid-Atlantic Fishery Management Council, Suite 201, 800 N State Street, Dover, DE 19901. These documents are also accessible via the internet at https://www.mafmc.org/supporting-documents.

FOR FURTHER INFORMATION CONTACT: Cynthia Ferrio, Fishery Policy Analyst, (978) 281-9180.

SUPPLEMENTARY INFORMATION:

Background

The Mid-Atlantic Fishery Management Council (Council) and the Atlantic States Marine Fisheries Commission (Commission) cooperatively manage bluefish from Maine to Florida under the Atlantic Bluefish Fishery Management Plan (FMP). The Council and Commission initiated Amendment 7 as a joint action in December 2017 to address a comprehensive range of management issues in the bluefish fishery from goals and objectives of the FMP to the allocation and transfer of quota between the commercial and recreational sectors. Following the overfished stock determination from the 2019 operational stock assessment, a rebuilding plan for bluefish was also added to the amendment, and final alternatives were approved at the joint meeting of the Council and Commission's Bluefish Management Board in February 2021. Public hearings on these alternatives were held throughout the spring of 2021, and the Council and Board approved Amendment 7 on June 8, 2021, with the intent that the changes would be effective for the 2022 fishing year that begins on January 1, 2022.

The purpose of this amendment is to implement a rebuilding plan for bluefish, as required by the Magnuson-Stevens Fishery Conservation and Management Act (Magnuson-Stevens Act), and to update the FMP; responding to recent changes in stock health and distribution using the best information available, while recognizing economic need and reliance throughout the management area. This action proposes to:

• Update the Bluefish FMP goals and objectives from those that were initially established for the fishery in 1991 to better reflect today's fishery;

• Re-allocate bluefish quota between the commercial and recreational fishery sectors to more accurately reflect recent catch and landings data in the fishery, allocating 14 percent to the commercial fishery and 86 percent to the recreational fishery (a 3-percentage point change from the current allocations of 17 percent to the commercial sector and 83 percent to the recreational sector);

• Re-allocate bluefish commercial quota to the states from Maine to Florida based on the most recent 10 years of landings data (2009-2018) rather than outdated historical information (1981-1989), including a 0.1-percent minimum default allocation so no states in the management unit lose quota entirely;

• Implement a 7-year rebuilding plan using a constant fishing mortality model where fishing mortality (F) = 0.154;

• Revise measures to allow the sector quota transfer to be bi-directional (from commercial to recreational or vice versa), with a revised maximum transfer cap of 10-percent of the Acceptable Biological Catch; and

• Revise administrative measures in the specifications process to allow for the accounting of sector-specific management uncertainty.

Additional information on these proposed changes can be found in the EA for this amendment and forthcoming proposed rule.

Public Comment Instructions

The Magnuson-Stevens Act allows NMFS as the implementing agency to approve, partially approve, or disapprove measures recommended by the Council in a regulatory amendment based on whether the measures are consistent with the FMP, the Magnuson-Stevens Act and its National Standards, and other applicable law. As such, NMFS is soliciting public comments on whether the measures in Amendment 7 to the Atlantic Bluefish FMP and its supporting documents are consistent with the FMP, the Magnuson-Stevens Act, and other applicable law. Public comments on this amendment may be submitted through the end of the comment period specified in the DATES section of this notice of availability (NOA).

A proposed rule that would implement this amendment, including draft regulatory text, will also be published in the Federal Register for public comment. All comments received by the end of the comment period on this NOA, whether specifically directed to the NOA or the proposed rule, will be considered in the approval/disapproval decision on Amendment 7. Comments received after the end of the comment period for this NOA will not be considered in the approval/disapproval decision of this action.

Authority: 16 U.S.C. 1801 et seq.

Dated: August 27, 2021.
Jennifer M. Wallace,
Acting Director, Office of Sustainable Fisheries, National Marine Fisheries Service.

[FR Doc. 2021-18848 Filed 8-31-21; 8:45 am]

BILLING CODE 3510-22-P